DEPARTMENT OF STATE

[Public Notice: 6612]

Notice of Request for Public Comments; 30-Day Notice of Proposed Information Collection: DS-261, Electronic Choice of the Address and Agent, OMB Control Number 1405-XXXX

ACTION: Notice of request for public comment and submission to OMB of proposed collection of information.

SUMMARY: The Department of State has submitted the following information collection request to the Office of Management and Budget (OMB) for approval in accordance with the Paperwork Reduction Act of 1995.

• Title of Information Collection: Electronic Choice of Address and Agent

• OMB Control Number: None

• Type of Request: New Collection

• Originating Office: Department of State, Bureau of Consular Affairs

• Form Number: DS-261

• Respondents: Aliens applying for immigrant visas

• Estimated Number of Respondents: 700,000

• Estimated Number of Responses: 700,000

• Average Hours per Response: 10 minutes

• Total Estimated Burden: 166,666 hrs. per year

• Frequency: Once per respondent

• Obligation to Respond: Required to Obtain or Retain Benefit

DATES: Submit comments to the Office of Management and Budget (OMB) up to June 12, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from Andrea B. Lage, Visa Services, U.S. Department of State, 2401 E Street, NW., L-603, Washington, DC, 20522, who may be reached at (202) 663-1399.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The DS-261 allows the beneficiary of an approved and current immigrant visa petition to provide the Department with his or her current address, which will be used for communications with the beneficiary. The DS-261 also allows the beneficiary to appoint an agent to receive mailings from the National Visa Center (NVC) and assist in the filing of various application forms and/or paying the required fees. The beneficiary is not required to appoint an agent but must provide current contact information. All cases will be held at NVC until the DS-261 is electronically submitted to the Department. If the form is not electronically submitted to the Department within one year, NVC will begin the case termination process.

Methodology

The DS-261 will be submitted electronically to the Department via the internet. Respondents who submit the electronic form will no longer submit paper-based forms to the Department.

Dated: April 29, 2009.
David T. Donahue,
Deputy Assistant Secretary, Bureau of Consular Affairs, Department of State.

[FR Doc. E9-11182 Filed 5-12-09; 8:45 am]

BILLING CODE 4710-06-P